DEPARTMENT OF AGRICULTURE

Forest Service

Wallowa-Whitman National Forests, Oregon; Lower Imnaha Rangeland Analysis

AGENCY: Forest Service, USDA

ACTION: Notice of intent to prepare an environmental impact statement.

Authority: 36 CFR 220.5(b).

SUMMARY: The USDA, Forest Service will prepare an environmental impact statement to authorize the approval of grazing livestock within the lower Imnaha area, including allotments within the Lightning Creek, Tulley Creek, Cow Creek, and a portion of the Snake River watersheds of the Hells Canyon National Recreation Area of the Wallowa-Whitman National Forest.

The Lower Imnaha Rangeland Analysis (LIRA) has previously been initiated through a scoping letter for environmental analysis for livestock grazing. The scoping letter was sent on August 26, 2011 to 159 individuals, organizations, and agencies which included tribal representatives, grazing permittees, state and federal resource management agencies, special interest organizations, and interested publics. As a result of scoping, a concern was brought forward regarding impacts to Silene spaldingii or Spalding's catchfly, a threatened species, which indicated the need for the LIRA to be analyzed in an environmental impact statement (EIS) instead of the environmental assessment (EA) that was indicated in the scoping letter. Since the proposed action has not changed since the scoping letter was released, a new scoping period will not be initiated. All scoping comments received during the 2011 30-day scoping period will be considered in the EIS.

DATES: The draft environmental impact statement is expected June 2014 and the final environmental impact statement and draft record of decision are expected September 2014.

ADDRESSES: Send written comments and suggestions to Area Ranger Kris Stein, Hells Canyon National Recreation, Wallowa-Whitman National Forest, PO Box 905, Joseph, OR 97846. Comments may also be sent via email to comments-pacificnorthwest-wallowa-whitman-hellscanyonnra@fs.fed.us.

FOR FURTHER INFORMATION CONTACT: Jamie McCormack, Interdisciplinary Team Leader, Wallowa-Whitman National Forest, Wallowa Mountains Office, PO Box 905, Joseph, OR 97846, Phone: (541) 263-1645.

Individuals who use telecommunication devices for the deaf (TDD) may call the Federal Information Relay Service (FIRS) at 1-800-877-8339 between 8 a.m. and 8 p.m., Eastern Time, Monday through Friday.

SUPPLEMENTARY INFORMATION:

Purpose and Need

The purpose of this project is to implement the direction of the Wallowa-Whitman Forest Plan,¹ HCNRA CMP (Comprehensive Management Plan) FEIS,² and the Acts of Congress to provide grazing on National Forest System lands. This analysis is being prepared to determine if the Forest Service should continue to authorize livestock grazing in the four allotments identified of this project.

¹ USDA Forest Service. (1990). Land and Resources Management Plan for the Wallowa-Whitman National Forest. Wallowa-Whitman National Forest, Baker City, Oregon.

² USDA Forest Service. (2003). Hells Canyon National Recreation Area Comprehensive Management Plan FEIS. Wallowa-Whitman National Forest. Baker City, Oregon.

The needs associated with this project are (1) to comply with with the Rescission Act of 1995 (Pub. L. 104-19, Section 504), (2) to be consistent with other multiple use goals and objectives provided by Congress, (3) to continue contributing to the economic and social well-being of communities that depend on range resources for their livelihood by providing opportunities for economic diversity and promoting stability (FSM 2202.14).

Proposed Action

The LIRA area is located approximately 35 miles northeast of the town of Enterprise, Oregon, and primarily includes the Imnaha River watershed and associated watersheds downstream of the Imnaha River Bridge “Cow Creek Bridge”, and watersheds from Deep Creek to the mouth of the Imnaha River. The decision area will encompass 45,625 acres, including four allotments: Cow Creek, Lone Pine, Rhodes Creek, and Toomey, all of which are in Wallowa County, Oregon. This EIS will analyze and authorize the continued use of this area for cattle grazing through Allotment Management Plans.

Responsible Official

The Hells Canyon National Recreation Area Ranger, Kris Stein will be the responsible official for making the decision and providing direction for the analysis.

Nature of Decision To Be Made

The responsible official will decide whether or not to authorize continued grazing in the LIRA project area. The responsible official will also decide whether or not to select the proposed action as stated or modified, or to select an alternative to it, any mitigation measures needed, and any monitoring that may be required.

Preliminary Issues

The interdisciplinary team has conducted field surveys and data research to identify preliminary issues of concern with this proposal. There is one primary concern:

The concern is with Spalding's catchfly, in regard to potential direct and indirect effects to the plant by livestock grazing. Through surveys conducted within the project area, this species has been found in several isolated patches, all of which are in fescue (Festuca)—type vegetation habitat on relatively steep north facing slopes. The direct effect would be livestock consuming the plant. However, livestock are grazing these areas when the species is dormant, and grazing of the plant is not a concern. The indirect effect to Spalding's catchfly is of more concern, and would require more detailed analysis because these plants are primarily growing in north facing areas, the soils tend to be deeper, and with grazing in wet conditions, there is a higher likelihood of hoof-shear causing damage to the crown of the Spalding's catchfly. The second indirect effect of concern is soil sloughing and hoof sheer on steeper slopes, and primarily in north-facing areas as the sloughing and hoof shear which could be contributing to a slow-moving erosion process in which soil is slowly being displaced and moving down the hillsides.

There are no preliminary concerns for the listed fish species and designated critical habitat of listed fish species within or adjacent to this allotment.

Based on these two preliminary issues and their potential for significant impacts, an EIS fits the scope of this analysis rather than an EA.

New 218 Objection Period

The new regulations, found at 36 CFR 218, provide an opportunity for individuals, organizations and tribal entities to file an objection to a project before the final decision is signed (36 CFR 218.5). This allows interested individuals, organizations and tribal entities to advise the responsible official about concerns regarding the final decision before the decision is made. When the final EIS and draft Record of Decision are released for public review, the public will have 45 days in which to review the documents and, if desired, file an objection to the Record of Decision.

Dated: November 26, 2013.
Thomas Montoya,
Deputy Forest Supervisor.

[FR Doc. 2013-29075 Filed 12-4-13; 8:45 am]

BILLING CODE 3410-11-P